DEPARTMENT OF STATE

[Public Notice: 7636]

30-Day Notice of Proposed Information Collection: DS-157, Supplemental Nonimmigrant Visa Form, OMB Control Number 1405-0134

ACTION: Notice of request for public comment and submission to OMB of proposed collection of information.

SUMMARY: The Department of State has submitted the following information collection request to the Office of Management and Budget (OMB) for approval in accordance with the Paperwork Reduction Act of 1995.

• Title of Information Collection: Supplemental Nonimmigrant Visa Application. OMB Control Number: 1405-0134.

• Type of Request: Extension of a Currently Approved Collection.

• Originating Office: Bureau of Consular Affairs, Department of State (CA/VO).

• Form Number: DS-157.

• Respondents: Nonimmigrant visa applicants legally required to provide additional security and background information.

• Estimated Number of Respondents: 150,000.

• Estimated Number of Responses: 150,000.

• Average Hours per Response: 1 hour.

• Total Estimated Burden: 150,000.

• Frequency: Once per respondent.

• Obligation to Respond: Required to Obtain or Retain a Benefit.

DATES: Submit comments to the Office of Management and Budget (OMB) for up to 30 days from October 7, 2011.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from Stefanie Claus of the Office of Visa Services, U.S. Department of State, 2401 E. Street, NW., L-603, Washington, DC 20522, who may be reached at (202) 663-2910.

SUPPLEMENTARY INFORMATION:

• Evaluate whether the proposed information collection is necessary to properly perform our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

Any applicant legally required to provide additional security and background information who does not use the DS-160 will use the DS-157 to apply for a nonimmigrant visa. While the DS-160 includes most questions listed on the DS-157, the DS-157 will be required for certain applicants in conjunction with the DS-156 in limited circumstances.

Methodology

The DS-157 is completed by applicants online or, in exceptional circumstances, in hard copy at the time of the interview.

Dated: August 30, 2011.
Edward J. Ramotowski,
Deputy Assistant Secretary, Acting Bureau of Consular Affairs, Department of State.

[FR Doc. 2011-25745 Filed 10-6-11; 8:45 am]

BILLING CODE 4710-06-P